DEPARTMENT OF THE INTERIOR

National Park Service

[NPS-WASO-NRNHL-DTS#-32223; PPWOCRADI0, PCU00RP14.R50000]

National Register of Historic Places; Notification of Pending Nominations and Related Actions

AGENCY: National Park Service, Interior.

ACTION: Notice.

SUMMARY: The National Park Service is soliciting electronic comments on the significance of properties nominated before June 26, 2021, for listing or related actions in the National Register of Historic Places.

DATES: Comments should be submitted electronically by July 23, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 26, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CONNECTICUT

Middlesex County

Ward, William and Mary, House, (Mid-Twentieth-Century Modern Residences in Connecticut 1930-1979, MPS), 45 Paterson Dr., Middletown, MP100006787

FLORIDA

Brevard County

Imperial Towers Apartments, 2825 South Washington Ave., Titusville, SG100006776

GEORGIA

Peach County

Henry Alexander Hunt High School Gymnasium, 600 Spruce St., Fort Valley, SG100006788

MASSACHUSETTS

Norfolk County

Evergreen Cemetery, 8 Evergreen St., Medway, SG100006778

Worcester County

Saint Joseph's Home for Working Girls, 52 High St., Worcester, SG100006777

MICHIGAN

St. Joseph County

Nettleton-Cond House, 260 South Washington St., Constantine, SG100006782

MISSISSIPPI

Lincoln County

Brookhaven Manufacturing Corporation, 109 Main St., Brookhaven, SG100006775

NEBRASKA

Cass County

Morgan-Fricke House, 623 North 6th St.,Plattsmouth, SG100006790

NEW YORK

Kings County

Moslem Mosque, 104-106 Powers St., Brooklyn, SG100006779

Richmond County

Vanderbilt Family Cemetery and Mausoleum, 2205 Richmond Rd., Staten Island, SG100006780

Westchester County

Child Welfare Association of Mamaroneck, 234 Stanley Ave., Mamaroneck, SG100006781

PENNSYLVANIA

Lehigh County

Kistler Residence,315-317 North 7th St., Allentown, SG100006785

Perry County

Bower Homestead Farm, (Agricultural Resources of Pennsylvania c1700-1960 MPS), 1790 Conococheague Rd., Blain, MP100006784

Philadelphia County

Tioga Mills, 3475 Collins St., also known as 2126 East Tioga St., Philadelphia, SG100006783

Schlichter Jute Cordage Company, 2155 Castor Ave., Philadelphia, SG100006791

TEXAS

Bexar County

Sacred Heart Conventual Chapel, 411 SW 24th St., San Antonio, SG100006774

WISCONSIN

Jackson County

Black River Falls Commercial Historic District, Generally bounded by Harrison, North Water, Fillmore, and North 3rd Sts., Black River Falls, SG100006789

Authority: Section 60.13 of 36 CFR part 60

Dated: June 29, 2021.
Sherry A. Frear,
Chief, National Register of Historic Places/National Historic Landmarks Program.

[FR Doc. 2021-14544 Filed 7-7-21; 8:45 am]

BILLING CODE 4312-52-P